DEPARTMENT OF TRANSPORTATION

National Highway Traffic Safety Administration

[Docket No. NHTSA-2006-23554; Notice 1]

Kawasaki Motors Corp., U.S.A., Receipt of Petition for Decision of Inconsequential Noncompliance

Kawasaki Motors Corp., U.S.A. (Kawasaki) has determined that the tires on certain motorcycles that it imported do not comply with S6.5(d) of 49 CFR 571.119, Federal Motor Vehicle Safety Standard (FMVSS) No. 119, “New pneumatic tires for vehicles other than passenger cars.” Kawasaki has filed an appropriate report pursuant to 49 CFR part 573, “Defect and Noncompliance Reports.”

Pursuant to 49 U.S.C. 30118(d) and 30120(h), Kawasaki has petitioned for an exemption from the notification and remedy requirements of 49 U.S.C. Chapter 301 on the basis that this noncompliance is inconsequential to motor vehicle safety.

This notice of receipt of Kawasaki's petition is published under 49 U.S.C. 30118 and 30120 and does not represent any agency decision or other exercise judgment concerning the merits of the petition.

Affected are the tires on a total of approximately 2,655 motorcycles which were manufactured between June 14, 2003 and October 27, 2005. S6.5(d) of FMVSS No. 119 requires that the maximum load rating and corresponding inflation pressure of the tires be marked on the tire in both English and metric units. The noncompliant tires do not have the metric markings.

Kawasaki believes that the noncompliance is inconsequential to motor vehicle safety and that no corrective action is warranted. Kawasaki states that there is little or no reason to expect an owner of these vehicles to have difficulty inflating the tires properly or understanding the loading information “since the motorcycle owner is provided with the appropriate information in English units, which are far more prevalent in use in the United States.” Further, Kawasaki states that the motorcycles are small and most often used for short distance commuting, and therefore “not likely to be ridden outside of the United States to jurisdictions where tire inflation equipment would be less likely to be calibrated in English units.”

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 21, 2006.

Authority: 49 U.S.C. 30118, 30120: delegations of authority at CFR 1.50 and 501.8.

Issued on: January 12, 2006.
Daniel C. Smith,
Associate Administrator for Enforcement.

[FR Doc. 06-463 Filed 1-18-06; 8:45 am]

BILLING CODE 4910-59-Ms